DEPARTMENT OF ENERGY

Federal Energy Regulatory Commission

Notice of Effectiveness of Exempt Wholesale Generator Status

Seville Solar One LLC | EG15-71-000
Tallbear Seville LLC | EG15-72-000
Garrison Energy Center LLC | EG15-73-000
RE Mustang LLC | EG15-74-000
RE Mustang 3 LLC | EG15-75-000
RE Mustang 4 LLC | EG15-76-000
Logan's Gap Wind LLC | EG15-77-000
Fowler Ridge IV Wind Farm LLC | EG15-78-000
Cameron Wind I, LLC | EG15-79-000
67RK 8me LLC | EG15-80-000
65HK 8me LLC | EG15-81-000
Balko Wind Transmission, LLC | EG15-82-000
Goodwell Wind Project, LLC | EG15-83-000
Breckinridge Wind Project, LLC | EG15-84-000
Alpaca Energy LLC | EG15-85-000
Beaver Dam Energy LLC | EG15-86-000
Milan Energy LLC | EG15-87-000
Oxbow Creek Energy LLC | EG15-88-000
Greenleaf Power Management LLC | EG15-89-000
Adelanto Solar, LLC | EG15-90-000
Adelanto Solar II, LLC | EG15-91-000

Take notice that during the month of June and July 2015, the status of the above-captioned entities as Exempt Wholesale Generators became effective by operation of the Commission's regulations. 18 CFR 366.7(a).

Dated: August 7, 2015.
Nathaniel J. Davis, Sr.,
Deputy Secretary.

[FR Doc. 2015-19894 Filed 8-12-15; 8:45 am]

BILLING CODE 6717-01-P